DEPARTMENT OF THE INTERIOR

Fish and Wildlife Service

[FWS-R9-FHC-2011-N086; 94310-1124-0000-T5]

John H. Chafee Coastal Barrier Resources System; Baldwin and Mobile Counties, AL; Availability of Draft Map and Request for Comments

AGENCY: Fish and Wildlife Service, Interior.

ACTION: Notice of availability; request for comments.

SUMMARY: We, the U.S. Fish and Wildlife Service (Service), announce the availability of a John H. Chafee Coastal Barrier Resources System (CBRS) draft revised map, dated September 22, 2009, for four units in Baldwin and Mobile Counties, Alabama, for public review and comment.

DATES: To ensure consideration, we must receive your written comments by November 14, 2011.

ADDRESSES: Mail or hand-deliver (during normal business hours) comments to Katie Niemi, Coastal Barriers Coordinator, Division of Habitat and Resource Conservation, U.S. Fish and Wildlife Service, 4401 N. Fairfax Drive, Room 860A, Arlington, VA 22203, or send comments by electronic mail (e-mail) to CBRAcomments@fws.gov. For information about how to get copies of the draft map, or where to go to view it, see SUPPLEMENTARY INFORMATION.

FOR FURTHER INFORMATION CONTACT: Katie Niemi, Coastal Barriers Coordinator, (703) 358-2161.

SUPPLEMENTARY INFORMATION:

Background

Coastal barriers are typically elongated, narrow landforms located at the interface of land and sea. Coastal barriers provide important habitat for fish and wildlife and serve as the mainland's first line of defense against the impacts of severe storms. With the passage of the Coastal Barrier Resources Act (CBRA) in 1982 (Pub. L. 97-348), Congress recognized that certain actions and programs of the Federal Government have historically subsidized and encouraged development on coastal barriers and have resulted in the loss of valuable natural resources; threats to human life, health, and property; and the expenditure of millions of tax dollars to build structures and infrastructure and then rebuild them again after damaging storms. The CBRA established the CBRS, a defined set of 186 geographic units, encompassing approximately 453,000 acres, of undeveloped lands and associated aquatic habitat along the Atlantic and Gulf of Mexico coasts. Most new Federal expenditures and financial assistance that have the effect of encouraging development are prohibited within the CBRS. Development can still occur within the CBRS provided that private developers or other non-Federal parties bear the full cost instead of the American taxpayers. The CBRS was expanded by the Coastal Barrier Improvement Act of 1990 (Pub. L. 101-591) to include additional areas along the Atlantic and Gulf of Mexico coasts as well as areas along the Great Lakes, Puerto Rico, and the U.S. Virgin Islands coasts. The CBRS is now comprised of 857 units encompassing approximately 3.1 million acres of coastal barrier lands and associated aquatic habitat. These areas are depicted on a series of maps entitled “John H. Chafee Coastal Barrier Resources System.”

The CBRS includes two types of units, System units and Otherwise Protected Areas (OPAs). System units are generally comprised of private lands that were relatively undeveloped at the time of their designation within the CBRS. Most new Federal expenditures and financial assistance, including Federal flood insurance, are prohibited within System units. OPAs are generally comprised of lands held by a qualified organization primarily for wildlife refuge, sanctuary, recreational, or natural resource conservation purposes. OPAs are denoted with a “P” at the end of the unit number. The only Federal spending prohibition within OPAs is the prohibition on Federal flood insurance.

The Secretary of the Interior (Secretary), through the Service, is responsible for administering the CBRA, which includes maintaining the official maps of the CBRS; consulting with Federal agencies that propose to spend funds within the CBRS; preparing draft maps that update and correct existing maps; and making recommendations to Congress regarding proposed changes to the CBRS. Aside from three minor exceptions, only Congress—through new legislation—can modify the maps of the CBRS to add or remove land. These exceptions include: (1) The CBRA 5-year review requirement, which considers only changes that have occurred to the CBRS by natural forces such as erosion and accretion; (2) voluntary additions to the CBRS by property owners; and (3) additions of excess Federal property to the CBRS. The proposed changes described in this notice, including any additions to and deletions from the CBRS, would become effective only if enacted by Congress through new legislation.

Proposed Changes to the John H. Chafee Coastal Barrier Resources System in Alabama

The Service has prepared a draft revised map dated September 22, 2009, for Mobile Point Unit Q01P, Pelican Island Unit Q01A/Q01AP, and Alligator Lake Unit AL-05P, that removes approximately 13 acres from the CBRS and adds approximately 488 acres to the CBRS. The Deepwater Horizon oil spill, which occurred on April 20, 2010, became a priority for Congress and the Administration and delayed action on this map until now. The map makes progress towards fulfilling a mandate in the Coastal Barrier Resources Reauthorization Act of 2006 (Pub. L. 109-226) to modernize all CBRS maps.

Below is a summary of the proposed changes to the draft map containing CBRS Units Q01P, Q01A, AL-05P, and a proposed new OPA, Q01AP.

Unit Q01P is located on four separate map panels, but the revised area is limited to the portion of the unit that is at the tip of the Fort Morgan peninsula and depicted on the same map panel as Units AL-05P and Q01A. The eastern boundary of Unit Q01P was adjusted slightly to be coincident with Baldwin County parcel data. There is no change in acreage to Unit Q01P.

The proposed northern boundary of Unit Q01A was moved 30-50 feet seaward of the Coastal Construction Line in order to exclude all development in the Desoto Landing Subdivision from the unit. The Unit Q01A boundary was also adjusted to include within the unit a golf course and an undeveloped stretch of beach that are owned by the Dauphin Island Property Owners Association. The draft map adds approximately 384 total acres to Unit Q01A, including 101 acres of upland and 283 acres of associated aquatic habitat. The draft map removes approximately 4 upland acres from Unit Q01A.

The proposed Unit AL-05P boundary was adjusted to more precisely follow the Audubon Bird Sanctuary; remove private properties along Audubon Street and Audubon Place from the OPA; and add the Coast Guard Dauphin Island Recreation Base, Magnolia Park, and Dauphin Island Campground to the OPA. The draft map adds approximately 49 total acres to Unit AL-05P, including 48 acres of upland and 1 acre of associated aquatic habitat. The draft map removes approximately 9 acres from Unit AL-05P, including 7 acres of upland and 2 acres of associated aquatic habitat.

Unit Q01AP is a proposed new OPA. The proposed OPA contains a public beach parcel, including the Dauphin Island Fishing Pier, which is owned by the Dauphin Island Park and Beach Board and is not currently within the CBRS. The draft map adds approximately 55 total acres within Unit Q01AP to the CBRS, including 40 acres of upland and 15 acres of associated aquatic habitat.

Proposed Additions to the John H. Chafee Coastal Barrier Resources System

The draft revised map for Units Q01P, Q01A, Q01AP, and AL-05P, proposes additions to the CBRS that are consistent with a directive in Section 4 of Public Law 109-226 concerning recommendations for expansion of the CBRS. The proposed boundaries depicted on the draft map are based upon the best data available to the Service at the time the draft map was created. In general, our assessment indicated that any new areas proposed for addition to the CBRS were undeveloped at the time the draft map was created.

Section 2 of the Coastal Barrier Resources Reauthorization Act of 2000 (Pub. L. 106-514) codified the following guidelines for what the Secretary shall consider when making recommendations to the Congress regarding the addition of any area to the CBRS and in determining whether, at the time of inclusion of a System unit within the CBRS, a coastal barrier is undeveloped: (1) The density of development is less than one structure per 5 acres of land above mean high tide; and (2) there is existing infrastructure consisting of a road, with a reinforced road bed, to each lot or building site in the area; a wastewater disposal system sufficient to serve each lot or building site in the area; electric service for each lot or building site in the area; and a fresh water supply for each lot or building site in the area.

If, upon review of the draft map for Units Q01P, Q01A, Q01AP, and AL-05P, interested parties find that any areas proposed for addition to the CBRS currently exceed the development threshold established by Section 2 of Public Law 106-514, they may submit supporting documentation of such development to the Service during this public comment period. For any areas proposed for addition to the CBRS on the draft map, we will consider the density of development and level of infrastructure on the ground as of the close of the comment period on the date listed in the DATES section of this notice.

Request for Comments

We invite the public to review and comment on the draft revised map dated September 22, 2009, for CBRS Units Q01P, Q01A, Q01AP, and AL-05P. The Service is specifically notifying the following stakeholders concerning the availability of the draft revised map: the Chair and Ranking Member of the House of Representatives Committee on Natural Resources; the Chair and Ranking Member of the Senate Committee on Environment and Public Works; the members of the Senate and House of Representatives for the potentially affected areas; the Governor of Alabama; Federal, State, and local officials; and non-governmental organizations.

The draft map, summaries of the existing boundaries and proposed changes, and digital boundary data can be accessed and downloaded from the Service's Internet site: http://www.fws.gov/habitatconservation/coastal_barrier.html. The digital boundary data are available in shapefile format for reference purposes only. The Service is not responsible for any misuse or misinterpretation of the digital boundary data. Background records that contain research materials used to develop the proposed boundaries may be viewed by the public, upon request, at the Service's Washington Office.

The public may also contact the Service offices listed in Appendix A of this notice to make arrangements to view the draft revised map. Interested parties may submit written comments and accompanying data to the individual and location identified in the ADDRESSES section above. The Service will also accept digital Geographic Information System (GIS) data files that are accompanied by written comments. Comments regarding specific units should reference the appropriate CBRS unit number and unit name. We must receive comments on or before the date listed in the DATES section of this document.

Following the close of the comment period on the date listed in the DATES section of this document, we will review all comments received on the draft map and we will make adjustments to the draft map, as appropriate, based on information received through public comments, updated aerial imagery, CBRA criteria, and objective mapping protocols. We will then prepare a final recommended map to be submitted to Congress. The final recommended map will become effective only if it is enacted by Congress through new legislation.

Public Availability of Comments

Before including your address, phone number, e-mail address, or other personal identifying information in your comment, you should be aware that your entire comment—including your personal identifying information—may be made publicly available at any time. While you can ask us in your comment to withhold your personal identifying information from public review, we cannot guarantee that we will be able to do so.

Appendix A—U.S. Fish and Wildlife Service Offices Where the Draft Map May Be Viewed

Washington Office

U.S. Fish and Wildlife Service, Division of Habitat and Resource Conservation, 4401 N. Fairfax Drive, Room 860A, Arlington, VA 22203; (703) 358-2161.

Southeast Regional Office

U.S. Fish and Wildlife Service, 1875 Century Boulevard, Suite 400, Atlanta, GA 30345; (404) 679-4000.

Alabama Ecological Services Field Office

U.S. Fish and Wildlife Service, 1208-B Main Street, Daphne, AL 36526; (251) 441-5181.

Dated: August 2, 2011.
Jeffrey L. Underwood,
Acting Assistant Director for Fisheries and Habitat Conservation.

[FR Doc. 2011-23174 Filed 9-9-11; 8:45 am]

BILLING CODE 4310-55-P